DEPARTMENT OF ENERGY

Federal Energy Regulatory Commission

[Docket No. EL10-79-000]

Morris Energy Group, LLC v.PSEG Energy Resources & Trade LLC; PSEG Fossil LLC; and PSEG Power LLC; Notice of Complaint

July 27, 2010.

Take notice that on July 23, 2010, Morris Energy Group, LLC (Morris Energy) (Complainant) filed a complaint against PSEG Energy Resources & Trade, LLC, PSEG Fossil LLC and PSEG Power LLC (PSEG Power Companies) (Respondents), requesting that the Federal Energy Regulatory Commission (Commission) find that the PSEG Power Companies violated their market-based rate authority and engaged in market manipulation in connection with a preferential affiliate retail gas delivery rate.

Morris Energy certifies that copies of the complaint were served on the contacts listed for Respondent in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please email FERCOnlineSupport@ferc.gov, or call (866) 208-3676 (toll free). For TTY, call (202) 502-8659.

Comment Date: 5 p.m. Eastern Time on August 12, 2010.

Kimberly D. Bose,
Secretary.

[FR Doc. 2010-18971 Filed 8-2-10; 8:45 am]

BILLING CODE 6717-01-P